LEGAL SERVICES CORPORATION

45 CFR Part 1607

Governing Bodies

AGENCY: Legal Services Corporation.

ACTION: Final rule.

SUMMARY: The Legal Services Corporation's (LSC) FY 2024 appropriation enacted on March 9, 2024, included language that lowered the proportion of attorneys required to serve on the governing bodies of LSC grant recipients from 60% to 33%, and eliminated the requirement that bar associations appoint the majority of attorneys. This final rule revises LSC's regulation pertaining to recipient governing bodies to be consistent with this directive from Congress.

DATES: This final rule is effective on January 1, 2025.

FOR FURTHER INFORMATION CONTACT: Stefanie K. Davis, Deputy General Counsel, Legal Services Corporation, 3333 K Street NW, Washington, DC 20007; (202) 295-1563 (phone), (202) 337-6519 (fax), or sdavis@lsc.gov.

SUPPLEMENTARY INFORMATION:

I. Background

The LSC Act of 1974 requires grant recipients to have governing bodies composed of at least 60% attorneys. 42 U.S.C. 2996f(c). LSC adopted Part 1607 and the 60% requirement in 1976. 41 FR 25899, June 23, 1976. Subsequently, LSC's fiscal year (FY) 1983 appropriation included a requirement that a majority of each recipient's governing body be composed of attorneys appointed by state or local bar associations, also known as the “McCollum Amendment.” Public Law 97-276, 96 Stat. 1186. LSC revised Part 1607 in 1983 to implement the McCollum Amendment. 48 FR 1971, Jan. 17, 1983. The McCollum Amendment currently appears in § 502(2)(b)(ii) of LSC's FY 1996 appropriation, which is incorporated through § 502 of LSC's FY 1998 appropriation, as referenced in all LSC appropriations from 1998 through 2024. See, e.g., Public Law 104-134, 110 Stat. 1321; Public Law 105-119, 111 Stat. 2440; Public Law 118-42.

LSC's FY 2024 appropriation changed the minimum attorney percentage to 33% and eliminated the McCollum Amendment requirement. The Administrative Provision of this appropriation reiterates the incorporation of prior appropriations' restrictions by reference. It also includes language stating that for purposes of applying the board composition requirements described in LSC's FY 1998 appropriation, the requirements would be satisfied if at least 33% of a grant recipient's board were composed of attorneys licensed in the state in which legal assistance is to be provided. Finally, it includes language stating that the McCollum Amendment does not apply. Public Law 118-42, Div. C, Title IV, 141 (2024) .

LSC proposed to make the following changes to incorporate the statutory changes and to reorganize § 1607.3 for ease of reference. First, LSC proposed to delete § 1607.3(b)(1) in its entirety and replace it with a new paragraph (b)(1) stating that a recipient's governing body must be composed of at least 33% attorneys. LSC proposed removing the language implementing the McCollum Amendment. LSC also proposed to redesignate existing paragraphs (b)(2) and (b)(3) as (b)(1)(i) and (b)(1)(ii), respectively.

Second, LSC proposed reorganizing the section by relocating the categories of governing body members currently located in paragraphs (c) and (d) to paragraphs (b)(2) and (b)(3), respectively, and placing the processes for appointments into subparagraphs under each category. LSC believes that restructuring § 1607.3 in this way will make it easier for readers to understand the categories of membership on LSC recipients' governing bodies and the considerations recipients use to recruit and select members.

Third, LSC proposed to redesignate paragraphs (f), (g), and (h) as (c), (d), and (e).

Finally, LSC proposed revising paragraph (e) to reflect the statutory change and allow recipient staff to recommend candidates to their governing bodies. LSC believes this change would empower recipient staff to identify and propose clients, attorneys, or other community members with relevant expertise for appointment to their respective governing bodies.

On April 2, 2024, the LSC Operations and Regulations Committee voted to recommend that the Board authorize LSC to open rulemaking on part 1607 and authorize publication of this NPRM in the Federal Register for notice and comment. On April 8, 2024, the Board accepted the Committee's recommendation and voted to approve publication of this NPRM. After consideration of the comments received during the comment period, on July 24, 2024, the Committee voted to recommend that the LSC Board adopt this final rule and approve its publication in the Federal Register. On July 24, 2024, the Board voted to adopt and publish this final rule.

Materials regarding this rulemaking are available in the open rulemaking section of LSC's website at http://www.lsc.gov/about-lsc/laws-regulations-guidance/rulemaking. After the effective date of the rule, those materials will appear in the closed rulemaking section at http://www.lsc.gov/about-lsc/laws-regulations-guidance/rulemaking/closed-rulemaking.

II. Comments

LSC received two comments during the public comment period. Comments were received from the National Legal Aid and Defender Association (NLADA) and Neighborhood Legal Services of Los Angeles County (NLSLA), an LSC grantee. Both comments supported LSC's proposed changes. NLSLA fully supported LSC's changes to § 1607.3(b)(1) due to the “increased capacity to identify candidates that have useful experiences” that are beneficial and effective to the boards of grant recipients. NLSLA also agreed with LSC's removal of the McCollum Amendment to allow “programs to use their discretion to select potential attorney members or designate other organizations to propose candidates.”

NLADA stated that it believed the proposed rule change allows for “talented individuals to join governing bodies, contributing new and important experience, skills, and perspectives.” NLADA further supported the rule change because it will “improve the quality of the attorneys that serve on the governing bodies of LSC grantees.”

LSC is making two technical changes that do not affect the substance of the final rule. First, at its April 2, 2024, meeting, a member of the Committee recommended reorganizing paragraph (b)(3) for consistency with paragraphs (b)(1) and (b)(2). LSC has made this technical change to the rule text. Additionally, in paragraphs (b)(1)(i) and (e)(1), LSC is replacing the term “the poor” with “low-income populations” based on the recommendation of a member of LSC's Board of Directors. The term “low-income populations” is also more consistent with LSC's use of the Income Eligibility Guidelines. LSC is otherwise adopting this rule as proposed.

List of Subjects in 45 CFR Part 1607

Grant program—law, Legal services.

For the reasons discussed in the preamble, the Legal Services Corporation amends 45 CFR part 1607 as follows:

PART 1607—GOVERNING BODIES

1. The authority citation for part 1607 is revised to read as follows:

Authority: 42 U.S.C. 2996g(e).

2. Amend § 1607.3 by revising paragraphs (b) through (e) to read as follows.

§ 1607.3 Composition.

* * * * *

(b) A recipient's governing body must be composed of:

(1) At least 33% attorneys;

(i) Attorney members may be selected by the recipient's governing body or may be selected by other organizations designated by the recipient which have an interest in the delivery of legal services to low-income populations.

(ii) Selections shall be made to ensure that the attorney members reasonably reflect the diversity of the legal community and the population of the areas served by the recipient, including race, ethnicity, gender, and other similar factors.

(2) At least one-third eligible client members who are eligible client members when initially selected by the recipient.

(i) Recipients must solicit recommendations for eligible client members from a variety of appropriate groups designated by the recipient that may include, but are not limited to, client and neighborhood associations and community-based organizations that advocate for or deliver services or resources to the client community served by the recipient.

(ii) Recipients should solicit recommendations from groups in a manner that reflects, to the extent possible, the variety of interests within the client community, and eligible client members should be selected so that they reasonably reflect the diversity of the eligible client population served by the recipient, including race, gender, ethnicity, and other similar factors.

(3) Other members selected by the recipients' governing body or in another manner described in the recipient's bylaws or policies.

(i) Recipients must appoint or select members so that the governing body as a whole reasonably reflects the diversity of the areas served by the recipient, including race, ethnicity, gender, and other similar factors.

(ii) Recipients should consider recruiting and selecting members possessing fiscal or nonprofit governance expertise or other skills necessary to effectively govern the recipient's operations.

(iii) Members of a governing body shall not be dominated by persons serving as the representatives of a single association, group or organization, except that eligible client members may be selected from client organizations that are composed of coalitions of numerous smaller or regionally based client groups.

(c) Members of a governing body may be selected by appointment, election, or other means consistent with this part and with the recipient's bylaws and applicable State law.

(d) Recipients shall make reasonable and good faith efforts to ensure that governing body vacancies are filled as promptly as possible.

(e) Recipient staff may recommend candidates for governing body membership to its governing body and other appointing groups and should consult with the appointing organizations to ensure that:

(1) Appointees meet the criteria for board membership set out in this part, including financial eligibility for persons appointed as eligible clients, bar admittance requirements for attorney board members, and the general requirements that all members be supportive of the purposes of the Act and have an interest in and knowledge of the delivery of legal services to low-income populations;

(2) The particular categories of board membership and the board as a whole meet the diversity requirement described in paragraphs (b)(1)(ii), (b)(2)(ii), and (b)(3)(ii) of this section;

(3) Appointees do not have actual and significant individual or institutional conflicts of interest with the recipient or the recipient's client community that could reasonably be expected to influence their ability to exercise independent judgement as members of the recipient's governing body.

* * * * *

Dated: August 6, 2024.
Stefanie Davis,
Deputy General Counsel, Legal Services Corporation.

[FR Doc. 2024-17729 Filed 8-9-24; 8:45 am]

BILLING CODE P